DEPARTMENT OF TRANSPORTATION

Federal Aviation Administration

Notice of Passenger Facility Charge (PFC) Approvals and Disapprovals

AGENCY: Federal Aviation Administration (FAA), DOT.

ACTION: Monthly Notice of PFC Approvals and Disapprovals. In December 2009, there were nine applications approved. This notice also includes information on one other application, disapproved in November 2009, inadvertently left off the November 2009 notice. Additionally, five approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Application Disapproved

Public Agency: Greater Orlando Aviation Authority, Orlando, Florida.

Application Number: 09-12-C-00-MCO.

Application Type: Impose and use a PFC.

Determination: This application involved a request to blend four previously issued decisions (00-08-C-00-MCO, 02-09-C-00-MCO, 05-10-C-00-MCO and 07-11-C-00-MCO) into a new decision in order to maintain a consistent PFC level of $4.50. The FAA examined the public agency's request and found that it was not consistent with the FAA's policies and procedures for blending decisions. Therefore, the FAA denied the public agency's request which had the ultimate effect of disapproving the application request.

Decision Date: November 9, 2009.

For Further Information Contact: Susan Moore, Orlando Airports District Office, (407) 812-6331, extension 120.

PFC Applications Approved

Public Agency: Hillsborough County Aviation Authority, Tampa, Florida.

Application Number: 09-08-C-00-TPA.

Application Type: Impose and use a PFC.

PFC Level: $4.50.

Total PFC Revenue Approved in This Decision: $50,436,700.

Earliest Charge Effective Date: March 1, 2016.

Estimated Charge Expiration Date: May 1, 2017.

Class of Air Carriers Not Required To Collect PFC's:

On-demand air taxi/commercial operators that do not enplane or deplane passengers at the public agency's main passenger terminal buildings or enplane less than 500 passengers per year at the airport.

Determination: Approved. Based on information contained in the public agency's application, the FAA has determined that the approved class accounts for less than 1 percent of the total annual enplanements at Tampa International Airport.

Brief Description of Project Approved for Collection and Use at a $4.50 PFC Level:

Taxiway B rehabilitation and bridge.

Brief Description of Projects Approved for Collection and Use at a $3.00 PFC Level:

North terminal complex conceptual design.

Cargo service road.

Decision Date: December 1, 2009.

For Further Information Contact: Susan Moore, Orlando Airports District Office, (407) 812-6331, extension 120.

Public Agency: City of Del Rio, Texas.

Application Number: 10-01-C-00-DRT.

Application Type: Impose and use a PFC.

PFC Level: $4.50.

Total PFC Revenue Approved in This Decision: $403,739.

Earliest Charge Effective Date: February 1, 2010.

Estimated Charge Expiration Date: December 1, 2015.

Class of Air Carriers Not Required To Collect PFC's:

None.

Brief Description of Projects Approved for Collection and Use:

Construct heliport/helipad.

Install apron lighting system.

Install taxiway A lighting system.

Expand terminal building.

Improve service road with fencing and gates.

PFC application and administrative fees.

Decision Date: December 8, 2010.

For Further Information Contact: Marcelino Sanchez, Texas Airports Development Office, (817) 222-5652.

Public Agency: Luzerne and Lackawanna Counties, Avoca, Pennsylvania.

Application Number: 09-07-C-00-AVP.

Application Type: Impose and use a PFC.

PFC Level: $4.50.

Total PFC Revenue Approved in This Decision: $164,000.

Earliest Charge Effective Date: August 1, 2017.

Estimated Charge Expiration Date: August 1, 2018.

Class of Air Carriers Not Required To Collect PFC's:

None.

Brief Description of Projects Approved for Collection and Use:

Upgrade terminal security system.

Wildlife assessment survey.

Handicapped passenger boarding ramp.

Decision Date: December 10, 2009.

For Further Information Contact: Lori Ledebohm, Harrisburg Airports District Office, (717) 730-2835.

Public Agency: Columbus Airport Commission, Columbus, Georgia.

Application Number: 10-04-C-00-CSG.

Application Type: Impose and use a PFC.

PFC Level: $4.50.

Total PFC Revenue Approved in This Decision: $1,032,681.

Earliest Charge Effective Date: February 1, 2010.

Estimated Charge Expiration Date: February 1, 2012.

Class of Air Carriers Not Required To Collect PFC's:

Air taxi/commercial operators.

Determination: Approved. Based on information contained in the public agency's application, the FAA has determined that the approved class accounts for less than 1 percent of the total annual enplanements at Columbus Airport.

Brief Description of Projects Approved for Collection and Use:

Prepare PFC application.

Obstruction clearing easements—runway 24.

Taxiway C relocation—pave and light.

Crack seal, seal coat, and mark general aviation apron.

Obstruction clearing easements—runway 6.

Terminal building improvements.

Airfield electrical improvements.

Security access controls (phase IV).

Security training software.

Upgrade security access control (phases I and II).

Aircraft rescue and firefighting building (design).

Runway 24 runway safety area improvements (design).

Runway 24 runway safety area improvements (grading/drainage).

Runway 6 localizer (design).

Aircraft rescue and firefighting building (design part 2).

Security access controls (phase III).

Runway 6/24 rehabilitation phase II (design).

Runway 6 localizer (construction).

Aircraft rescue and firefighting building (construction).

Fiber optics for aircraft rescue and firefighting building.

Runway 6/24 rehabilitation phase II (construction).

Obstruction clearing easements runway 24.

Brief Description of Project Approved for Collection:

Perimeter road and fencing replacement.

Decision Date: December 11, 2009.

For Further Information Contact: Anna Guss, Atlanta Airports District Office, (404) 305-7146.

Public Agency: Port of Oakland, Oakland, California.

Applications Number: 10-15-I-00-OAK.

Application Type: Impose a PFC.

PFC Level: $3.00.

Total PFC Revenue Approved in This Decision: $70,259,000.

Earliest Charge Effective Date: April 1, 2021.

Estimated Charge Expiration Date: May 1, 2023.

Class of Air Carriers Not Required To Collect PFC's:

Nonscheduled/on-demand air carriers filing FAA Form 1800-31.

Determination: Approved. Based on information contained in the public agency's application, the FAA has determined that the approved class accounts for less than 1 percent of the total annual enplanements at Metropolitan Oakland International Airport.

Brief Description of Project Approved for Collection:

Bay Area Rapid Transit Airport Connector.

Decision Date: December 14, 2009.

For Further Information Contact: Gretchen Kelly, San Francisco Airports District Office, (650) 876-2778, extension 623.

Public Agency: Broome County Department of Aviation, Johnson City, New York.

Application Number: 10-13-C-00-BGM.

Application Type: Impose and use a PFC.

PFC Level: $4.50.

Total PFC Revenue Approved in This Decision: $492,974.

Earliest Charge Effective Date: April 1, 2011.

Estimated Charge Expiration Date: July 1, 2012.

Class of Air Carriers Not Required To Collect PFC's:

Non-scheduled/on-demand air carriers filing FAA Form 1800-31.

Determination: Approved. Based on information contained in the public agency's application, the FAA has determined that the approved class accounts for less than 1 percent of the total annual enplanements at Greater Binghamton Airport.

Brief Description of Projects Approved for Collection and Use:

Runway safety area improvements—environmental assessment.

Runway 24 engineered mass arresting system retrofit.

Airport master plan—phase II capital improvement planning program.

Security improvements.

Snow equipment purchase—liquid deice truck.

Brief Description of Project Approved for Use:

Main apron rehabilitation construction.

Decision Date: December 18, 2009.

For Further Information Contact: Andrew Brooks, New York Airports District Office, (516) 227-3816.

Public Agency: Duluth Airport Authority, Duluth, Minnesota.

Application Number: 09-09-C-00-DLH.

Application Type: Impose and use a PFC.

PFC Level: $4.50.

Total PFC Revenue Approved in This Decision: $427,727.

Earliest Charge Effective Date: October 1, 2010.

Estimated Charge Expiration Date: November 1, 2011.

Class of Air Carriers Not Required To Collect PFC's:

Part 135 air taxi/commercial operators.

Determination: Approved. Based on information contained in the public agency's application, the FAA has determined that the approved class accounts for less than 1 percent of the total annual enplanements at Duluth International Airport.

Brief Description of Projects Approved for Collection and Use:

Preparation of PFC notice of intent.

Rehabilitate runway 3/21.

Remove taxiway A4.

Design services for replacement terminal.

Replace passenger boarding bridges (gates 1 and 4).

Update airport layout plan and master plan.

Prepare storm water pollution prevention plan.

Decision Date: December 22, 2009.

For Further Information Contact: Gordon Nelson, Minneapolis Airports District Office, (612) 713-4358.

Public Agency: City of Chicago, Department of Aviation, Chicago, Illinois.

Application Number: 09-22-C-00-ORD.

Application Type: Impose and use a PFC.

PFC Level: $4.50.

Total PFC Revenue Approved in this Decision: $247,195,313.

Earliest Charge Effective Date: May 1, 2026.

Estimated Charge Expiration Date: April 1, 2028.

Class of Air Carriers Not Required To Collect PFC's: Air taxi.

Determination: Approved. Based on information contained in the public agency's application, the FAA has determined that the approved class accounts for less than 1 percent of the total annual enplanements at Chicago O'Hare International Airport.

Brief Description of Project Partially Approved for Collection and Use: Residential insulation.

Determination: Partially approved for collection and use. Costs identified as “contingencies” in the detailed cost information were not allowed.

Decision Date: December 23, 2009.

For Further Information Contact: Amy Hanson, Chicago Airports District Office, (847) 294-7354.

Public Agency: City of Dallas, Texas.

Application Number: 10-03-C-00-DAL.

Application Type: Impose and use a PFC.

PFC Level: $4.50.

Total PFC Revenue Approved in this Decision: $345,323,728.

Earliest Charge Effective Date: February 1, 2010.

Estimated Charge Expiration Date: March 1, 2022.

Class of Air Carriers Not Required To Collect PFC's: Air taxi/commercial operators filing FAA Form 1800-31.

Determination: Approved. Based on information contained in the public agency's application, the FAA has determined that the approved class accounts for less than 1 percent of the total annual enplanements at Dallas Love Field.

Brief Description of Projects Approved for Collection and Use at a $4.50 PFC Level:

Aircraft apron and fuel system.

New terminal.

Brief Description of Projects Approved for Collection and Use at a $3.00 PFC Level:

Reconstruct taxiways A, B, and D.

Taxiways L and D1 reconstruction and extension.

Taxiway B modifications.

Taxiway M extension.

Holding pad reconstruction.

North and west airfield electrical vaults.

Storm water outflow controls system.

Runway safety area enhancements.

New field maintenance facility.

Taxiway C and K rehabilitation.

Aircraft rescue and firefighting vehicle—acquire 3,000 gallon replacement.

Perimeter road rehabilitation.

Rehabilitate runways.

Taxiways B, C, and N—construct and rehabilitate.

Runway lighting update.

Concourse aprons—east/west rehabilitate.

Terminal rehabilitation.

Enhance security.

Service road rehabilitation.

Noise mitigation.

Conduct planning studies.

Acquire safety equipment.

Access road—rehabilitate.

Brief Description of Disapproved Project:

Security controls enhancement (perimeter fence).

Determination: Disapproved for collection and use. This project was determined to be ineligible for PFC funding.

Decision Date: December 24, 2009.

For Further Information Contact: Rodney Clark, Texas Airports Development Office, (817) 222-5659.

Amendments to PFC Approvals
Amendment No. city, state | Amendment approved date | Originial approved net PFC revenue | Amended approved net PFC revenue | Original estimated charge exp. date | Amended estimated charge exp. date
96-01-C-02-ORF, Norfolk, VA | 11/12/09 | $64,005,536 | $64,951,249 | 03/01/10 | 01/01/10
01-02-C-02-BJI, Bemidji, MN | 12/01/09 | 416,452 | 401,336 | 08/01/05 | 08/01/05
06-10-C-01-COS, Colorado Springs, CO | 12/16/09 | 3,012,574 | 3,000,889 | 06/01/09 | 06/01/09
07-11-C-02-COS, Colorado Springs, CO | 12/16/09 | 1,942,578 | 2,243,400 | 12/01/09 | 01/01/11
08-05-C-01-MSL, Muscle Shoals, AL | 12/23/09 | 120,000 | 41,425 | 04/01/13 | 04/01/10

Issued in Washington, DC on March 11, 2010.
Joe Hebert,
Manager, Financial Analysis and Passenger Facility Charge Branch.

[FR Doc. 2010-5901 Filed 3-18-10; 8:45 am]

BILLING CODE 4910-13-M